DEPARTMENT OF ENERGY

Federal Energy Regulatory Commission

Combined Notice of Filings #1

Take notice that the Commission received the following electric rate filings:

Docket Numbers: ER25-972-001.

Applicants: Citi Prepaid Energy LLC.

Description: Notice of Non-Material Change in Status of Citi Prepaid Energy LLC.

Filed Date: 1/21/26.

Accession Number: 20260121-5187.

Comment Date: 5 p.m. ET 2/11/26.

Docket Numbers: ER25-2312-005.

Applicants: Midcontinent Grid Solutions Iowa, LLC.

Description: Compliance filing: Amendment to Compliance Filing and Request for Shortened Comment Period to be effective 7/23/2025.

Filed Date: 1/23/26.

Accession Number: 20260123-5143.

Comment Date: 5 p.m. ET 2/13/26.

Docket Numbers: ER26-283-000.

Applicants: Southern California Edison Company.

Description: Response to 12/23/2025, Deficiency Letter of Southern California Edison Company.

Filed Date: 1/22/26.

Accession Number: 20260122-5151.

Comment Date: 5 p.m. ET 2/12/26.

Docket Numbers: ER26-1103-000.

Applicants: Northwest Power Pool.

Description: § 205(d) Rate Filing: Proposed Tariff Revisions to Adopt WRAP Qualifying Transmission Definition to be effective 3/24/2026.

Filed Date: 1/22/26.

Accession Number: 20260122-5142.

Comment Date: 5 p.m. ET 2/12/26.

Docket Numbers: ER26-1104-000.

Applicants: Midcontinent Independent System Operator, Inc.

Description: § 205(d) Rate Filing: 2025-01-22_Termination of Rate Schedule 19 MISO and Kansas City Power & Light Co to be effective 9/19/2025.

Filed Date: 1/22/26.

Accession Number: 20260122-5143.

Comment Date: 5 p.m. ET 2/12/26.

Docket Numbers: ER26-1105-000.

Applicants: Tucson Electric Power Company.

Description: § 205(d) Rate Filing: Amendment to Service Agreement No. 509 to be effective 12/30/2025.

Filed Date: 1/22/26.

Accession Number: 20260122-5146.

Comment Date: 5 p.m. ET 2/12/26.

Docket Numbers: ER26-1106-000.

Applicants: Southwest Power Pool, Inc.

Description: § 205(d) Rate Filing: 3221R2 Grain Belt Express/ITC Great Plains Int Agr to be effective 3/25/2026.

Filed Date: 1/23/26.

Accession Number: 20260123-5000.

Comment Date: 5 p.m. ET 2/13/26.

Docket Numbers: ER26-1107-000.

Applicants: PJM Interconnection, L.L.C.

Description: § 205(d) Rate Filing: Amendment to GIA No. 7465 & CSA No. 7466; Queue No. AG1-054 to be effective 3/25/2026.

Filed Date: 1/23/26.

Accession Number: 20260123-5032.

Comment Date: 5 p.m. ET 2/13/26.

Docket Numbers: ER26-1108-000.

Applicants: Southwest Power Pool, Inc.

Description: § 205(d) Rate Filing: 4599 American Electric Power Service Corp Market Participant Agr. to be effective 1/1/2026.

Filed Date: 1/23/26.

Accession Number: 20260123-5038.

Comment Date: 5 p.m. ET 2/13/26.

Docket Numbers: ER26-1109-000.

Applicants: Florida Power & Light Company.

Description: Tariff Amendment Cancellation of Original Service Agreement No. 321 with Lake Worth to be effective 2/1/2026.

Filed Date: 1/23/26.

Accession Number: 20260123-5054.

Comment Date: 5 p.m. ET 2/13/26.

Docket Numbers: ER26-1110-000.

Applicants: Midcontinent Independent System Operator, Inc.

Description: § 205(d) Rate Filing: 2026-01-23_SA 4660 OTP-OTP GIA (E0005) to be effective 1/13/2026.

Filed Date: 1/23/26.

Accession Number: 20260123-5067.

Comment Date: 5 p.m. ET 2/13/26.

Docket Numbers: ER26-1111-000.

Applicants: Midcontinent Independent System Operator, Inc.

Description: § 205(d) Rate Filing: 2026-01-23_SA 4661 OTP-OTP-NSP-ITC-MEC JTIQ CA (E0005) to be effective 1/16/2026.

Filed Date: 1/23/26.

Accession Number: 20260123-5075.

Comment Date: 5 p.m. ET 2/13/26.

Docket Numbers: ER26-1112-000.

Applicants: California Independent System Operator Corporation.

Description: § 205(d) Rate Filing: 2026-01-23 EDAM Load Serving Entity Agreement—Bonneville Power Administration to be effective 3/25/2026.

Filed Date:1/23/26.

Accession Number: 20260123-5103.

Comment Date: 5 p.m. ET 2/13/26.

Docket Numbers: ER26-1113-000.

Applicants: California Independent System Operator Corporation.

Description: Tariff Amendment: 2026-01-23 Termination—Hosted Advanced Network App Service Agreement-El Paso to be effective 3/25/2026.

Filed Date: 1/23/26.

Accession Number: 20260123-5130.

Comment Date: 5 p.m. ET 2/13/26.

Docket Numbers: ER26-1114-000.

Applicants: Welcome Solar II LLC.

Description: Initial Rate Filing: Application for Market Based Rate Tariff to be effective 3/24/2026.

Filed Date: 1/23/26.

Accession Number: 20260123-5133.

Comment Date: 5 p.m. ET 2/13/26.

Docket Numbers: ER26-1115-000.

Applicants: Midcontinent Independent System Operator, Inc.

Description: § 205(d) Rate Filing: 2025-01-23_Termination of Rate Schedule 24 MISO and Omaha Public Power District to be effective 9/19/2025.

Filed Date: 1/23/26.

Accession Number: 20260123-5136.

Comment Date: 5 p.m. ET 2/13/26.

Docket Numbers: ER26-1116-000.

Applicants: Welcome Solar III LLC.

Description: Initial Rate Filing: Application for Market Based Rate to be effective 3/24/2026.

Filed Date: 1/23/26.

Accession Number: 20260123-5137.

Comment Date: 5 p.m. ET 2/13/26.

Docket Numbers: ER26-1117-000.

Applicants: Midcontinent Independent System Operator, Inc.

Description: § 205(d) Rate Filing: 2025-01-23_Termination of Rate Schedule 42 MISO and AEP to be effective 9/19/2025.

Filed Date: 1/23/26.

Accession Number: 20260123-5140.

Comment Date: 5 p.m. ET 2/13/26.

Docket Numbers: ER26-1118-000.

Applicants: PJM Interconnection, L.L.C.

Description: § 205(d) Rate Filing: Revisions to OA, Schedule 12 & RAA, Schedule 17 RE: 4Q 2025 Member Lists to be effective 12/31/2025.

Filed Date: 1/23/26.

Accession Number: 20260123-5186.

Comment Date: 5 p.m. ET 2/13/26.

Docket Numbers: ER26-1119-000.

Applicants: California Independent System Operator Corporation.

Description: § 205(d) Rate Filing: 2026-01-23 Cert of Concurrence—Large Generator Interconnection Agrmt-TransWest to be effective 9/2/2025.

Filed Date: 1/23/26.

Accession Number: 20260123-5187.

Comment Date: 5 p.m. ET 2/13/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: January 23, 2026.
Debbie-Anne A. Reese,
Secretary.

[FR Doc. 2026-01707 Filed 1-27-26; 8:45 am]

BILLING CODE 6717-01-P